DEPARTMENT OF TRANSPORTATION

Federal Aviation Administration

14 CFR Part 97

[Docket No. 30725 ; Amdt. No. 3374]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 7, 2010. The compliance date for each SIAP, associated Takeoff Minimums, and ODP is specified in the amendatory provisions.

The incorporation by reference of certain publications listed in the regulations is approved by the Director of the Federal Register as of June 7, 2010.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169, or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97:

Air Traffic Control, Airports, Incorporation by reference, and Navigation (Air).

Issued in Washington, DC, on May 14, 2010.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 1 JUL 2010

Orlando, FL, Orlando Intl, ILS OR LOC RWY 36R, ILS RWY 36R (CAT II), ILS RWY 36R (CAT III), Amdt 9A

Effective 29 JUL 2010

Atqasuk, AK, Atqasuk Edward Burnell Sr. Memorial, NDB RWY 6, Amdt 2

Atqasuk, AK, Atqasuk Edward Burnell Sr. Memorial, NDB RWY 24, Amdt 2

Atqasuk, AK, Atqasuk Edward Burnell Sr. Memorial, Takeoff Minimums and Obstacle DP, Orig

Barrow, AK, Wiley Post-Will Rogers Memorial, GPS RWY 24, Orig-B, CANCELLED

Barrow, AK, Wiley Post-Will Rogers Memorial, ILS OR LOC/DME RWY 6, Orig-B CANCELLED

Barrow, AK, Wiley Post-Will Rogers Memorial, ILS OR LOC/DME RWY 7, Orig

Barrow, AK, Wiley Post-Will Rogers Memorial, LOC/DME BC RWY 24, Amdt 3C, CANCELLED

Barrow, AK, Wiley Post-Will Rogers Memorial, LOC/DME BC RWY 25, Orig

Barrow, AK, Wiley Post-Will Rogers Memorial, NDB RWY 6, Amdt 5A, CANCELLED

Barrow, AK, Wiley Post-Will Rogers Memorial, NDB RWY 24, Amdt 6, CANCELLED

Barrow, AK, Wiley Post-Will Rogers Memorial, RNAV (GPS) RWY 6, Orig-B, CANCELLED

Barrow, AK, Wiley Post-Will Rogers Memorial, RNAV (GPS) RWY 7, Orig

Barrow, AK, Wiley Post-Will Rogers Memorial, RNAV (GPS) RWY 25, Orig

Barrow, AK, Wiley Post-Will Rogers Memorial, Takeoff Minimums and Obstacle DP, Orig

Barrow, AK, Wiley Post-Will Rogers Memorial, VOR RWY 24, Amdt 3B, CANCELLED

Barrow, AK, Wiley Post-Will Rogers Memorial, VOR/DME RWY 24, Amdt 1A, CANCELLED

Barrow, AK, Wiley Post-Will Rogers Memorial, VOR/DME RWY 25, Orig

Muscle Shoals, AL, Northwest Alabama Rgnl, ILS OR LOC RWY 29, Amdt 5

Muscle Shoals, AL, Northwest Alabama Rgnl, RNAV (GPS) RWY 11, Amdt 1

Muscle Shoals, AL, Northwest Alabama Rgnl, RNAV (GPS) RWY 29, Amdt 1

Safford, AZ, Safford Rgnl, GPS RWY 12, Orig-A, CANCELLED

Safford, AZ, Safford Rgnl, GPS RWY 30, Orig-A, CANCELLED

Safford, AZ, Safford Rgnl, RNAV (GPS) RWY 12, Orig

Safford, AZ, Safford Rgnl, RNAV (GPS) RWY 30, Orig

Safford, AZ, Safford Rgnl, Takeoff Minimums and Obstacle DP, Amdt 1

Watsonville, CA, Watsonville Muni, NDB-B, Amdt 2

Watsonville, CA, Watsonville Muni, RNAV (GPS) RWY 2, Orig

Watsonville, CA, Watsonville Muni, VOR/DME-A, Amdt 1

Jacksonville, FL, Jacksonville Intl, RADAR-1, Amdt 6C, CANCELLED

Salmon, ID, Lemhi County, RNAV (GPS)-D, Orig

Galesburg, IL, Galesburg Muni, Takeoff Minimums and Obstacle DP, Orig

Atwood, KS, Atwood-Rawlins County City-Co, Takeoff Minimums and Obstacle DP, Orig

Benton, KS, Lloyd Strearman Field, Takeoff Minimums and Obstacle DP, Orig

Junction City, KS, Freeman Field, NDB-B, Amdt 5

Dowagiac, MI, Dowagiac Muni, Takeoff Minimums and Obstacle DP, Amdt 5

Newberry, MI, Luce County, Takeoff Minimums and Obstacle DP, Orig

Three Rivers, MI, Three Rivers Muni Dr. Haines, NDB RWY 27, Amdt 7A, CANCELLED

Brainerd, MN, Brainerd Lakes Rgnl, RNAV (GPS) RWY 5, Amdt 1

Brainerd, MN, Brainerd Lakes Rgnl, RNAV (GPS) RWY 12, Amdt 1

Brainerd, MN, Brainerd Lakes Rgnl, RNAV (GPS) RWY 30, Amdt 1

Brainerd, MN, Brainerd Lakes Rgnl, VOR/DME OR GPS RWY 12, Amdt 9A, CANCELLED

Brainerd, MN, Brainerd Lakes Rgnl, VOR OR GPS RWY 30, Amdt 13B, CANCELLED

Two Harbors, MN, Richard B. Helgeson, NDB RWY 24, Amdt 1, CANCELLED

Ava, MO, Ava Bill Martin Memorial, NDB RWY 31, Amdt 1, CANCELLED

Perryville, MO, Perryville Muni, GPS RWY 2, Orig-A, CANCELLED

Perryville, MO, Perryville Muni, GPS RWY 20, Orig-A, CANCELLED

Perryville, MO, Perryville Muni, RNAV (GPS) RWY 2, Orig

Perryville, MO, Perryville Muni, RNAV (GPS) RWY 20, Orig

Perryville, MO, Perryville Muni, Takeoff Minimum and Obstacle DP, Orig

Perryville, MO, Perryville Muni, VOR/DME-A, Amdt 5

Perryville, MO, Perryville Muni, VOR/DME RNAV RWY 20, Amdt 3A, CANCELLED

Kalispell, MT, Glacier Park Intl, ILS OR LOC RWY 2, Amdt 6A

Missoula, MT, Missoula Intl, GRZLY TWO Graphic Obstacle DP

Grafton, ND, Hutson Field, GPS RWY 17, Orig, CANCELLED

Grafton, ND, Hutson Field, GPS RWY 35, Amdt 1, CANCELLED

Grafton, ND, Hutson Field, RNAV (GPS) RWY 17, Orig

Grafton, ND, Hutson Field, RNAV (GPS) RWY 35, Orig

Grafton, ND, Hutson Field, Takeoff Minimums and Obstacle DP, Amdt 1

Hazen, ND, Mercer County Rgnl, RNAV (GPS) RWY 14, Amdt 1

Hazen, ND, Mercer County Rgnl, RNAV (GPS) RWY 32, Amdt 1

Hazen, ND, Mercer County Rgnl, Takeoff Minimums and Obstacle DP, Orig

Williston, ND, Sloulin Fld Intl, ILS OR LOC RWY 29, Amdt 4

Williston, ND, Sloulin Fld Intl, NDB RWY 29, Amdt 3

Williston, ND, Sloulin Fld Intl, RNAV (GPS) RWY 11, Orig

Williston, ND, Sloulin Fld Intl, RNAV (GPS) RWY 29, Orig

Williston, ND, Sloulin Fld Intl, Takeoff Minimums and Obstacle DP, Amdt 4

Williston, ND, Sloulin Fld Intl, VOR RWY 11, Amdt 13

Williston, ND, Sloulin Fld Intl, VOR/DME RWY 29, Amdt 4

Thedford, NE, Thomas County, RNAV (GPS) RWY 11, Amdt 2

Thedford, NE, Thomas County, RNAV (GPS) RWY 29, Amdt 2

Portsmouth, NH, Portsmouth Intl At Pease, ILS OR LOC RWY 16, Amdt 2

Portsmouth, NH, Portsmouth Intl At Pease, ILS OR LOC RWY 34, Amdt 3

Portsmouth, NH, Portsmouth Intl At Pease, RNAV (GPS) RWY 16, Amdt 2

Portsmouth, NH, Portsmouth Intl At Pease, RNAV (GPS) RWY 34, Amdt 1

Cleveland, OH, Cleveland-Hopkins Intl, RNAV (GPS) RWY 10, Amdt 2

Connellsville, PA, Joseph A. Hardy Connellsville, LOC RWY 5, Amdt 3

St Mary's, PA, St Mary's Muni, RNAV (GPS) RWY 28, Amdt 1A

Morristown, TN, Moore-Murrell, Takeoff Minimums and Obstacle DP, Amdt 3

Front Royal, VA, Front Royal-Warren County, RNAV (GPS)-A, Orig-A

Front Royal, VA, Front Royal-Warren County, Takeoff Minimums and Obstacle DP, Amdt 1

Front Royal, VA, Front Royal-Warren County, VOR-B, Orig-A

Charleston, WV, Yeager, VOR/DME RNAV OR GPS RWY 15, Amdt 2A, CANCELLED

Charleston, WV, Yeager, VOR/DME RNAV OR GPS RWY 33, Amdt 2A, CANCELLED

Clarksburg, WV, North Central West Virginia, VOR-A, Orig

Clarksburg, WV, North Central West Virginia, VOR OR GPS RWY 3, Amdt 15B, CANCELLED

[FR Doc. 2010-12131 Filed 6-4-10; 8:45 am]

BILLING CODE 4910-13-P